DEPARTMENT OF HOMELAND SECURITY

Coast Guard

33 CFR Part 117

[Docket No. USCG-2011-1028]

Drawbridge Operation Regulation; St. Johns River, Jacksonville, FL

AGENCY: Coast Guard, DHS.

ACTION: Notice of temporary deviation from regulations.

SUMMARY: The Commander, Seventh Coast Guard District, has issued a temporary deviation from the regulation governing the operation of the Florida East Coast automated railroad bridge across the St. Johns River, mile 24.9, in Jacksonville, Florida. The regulation is set forth in 33 CFR 117.325(b). The deviation is necessary to enable the bridge owner to repair the bridge. This deviation will result in the bridge remaining closed to navigation during extensive periods of daylight hours.

DATES: This deviation is effective from 8 a.m. on January 15, 2012 through 5 p.m. on March 29, 2012.

ADDRESSES: Documents mentioned in this preamble as being available in the docket are part of docket USCG-2011-1028 and are available online by going to http://www.regulations.gov, inserting USCG-2011-1028 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Michael Lieberum, Seventh District Bridge Branch, Coast Guard; telephone (305) 415-6744, email Michael.B.Lieberum@uscg.mil. If you have questions on viewing the docket, call Renee V. Wright, Program Manager, Docket Operations, telephone (202) 366-9826.

SUPPLEMENTARY INFORMATION: The bridge owner has determined that extensive repairs are required on the Florida East Coast automated railroad bridge over the St. Johns River in Jacksonville, Florida. This temporary deviation will enable the bridge owner to make necessary repairs to the bridge. The bridge provides a vertical clearance of 5 feet above mean high water in the closed position and a horizontal clearance of 195 feet.

The normal operating schedule for the bridge is set forth in 33 CFR 117.325(b). 33 CFR 117.325(b) states that the draw is normally in the fully open position, displaying flashing green lights to indicate that vessels may pass. When a train approaches, large signs on both the upstream and downstream sides of the bridge flash “Bridge Coming Down,” the lights go to flashing red, and siren signals sound. After an eight minute delay, the draw lowers and locks if there are no vessels under the draw. The draw remains down for a period of eight minutes or while the approach track circuit is occupied. After the train has cleared, the draw opens and the lights return to flashing green.

The deviation will be in effect from 8 a.m. on January 15, 2012 through 5 p.m. on March 29, 2012. As a result of this deviation, the Florida East Coast automated railroad bridge over the St. Johns River will remain closed to navigation from 8 a.m. until 11:30 a.m. and from 12:30 p.m. until 5 p.m. Sundays through Thursdays from 8 a.m. on January 15, 2012 through 5 p.m. on March 29, 2012. This deviation will affect all vessel traffic transiting under the bridge. Vessels may not pass underneath the bridge in closed position, and there are no alternate routes for vessel traffic. Due to the nature of the repair work, it would take a minimum of two hours to open in an emergency as the bridge would have to be rebalanced before it could open.

In accordance with 33 CFR 117.35(e), the drawbridge must return to its regular operating schedule immediately at the end of the designated time period. This deviation from the operating regulations is authorized under 33 CFR 117.35.

Dated: December 22, 2011.
W.D. Baumgartner,
Rear Admiral, U.S. Coast Guard, Commander, Seventh Coast Guard District.

[FR Doc. 2011-33819 Filed 1-4-12; 8:45 am]

BILLING CODE 9110-04-P